DEPARTMENT OF TRANSPORTATION

National Highway Traffic Safety Administration

[U.S. DOT Docket No. NHTSA-2016-0119]

Reports, Forms, and Record Keeping Requirements

AGENCY: National Highway Traffic Safety Administration (NHTSA), U.S. Department of Transportation.

ACTION: 30-day notice.

SUMMARY: Before a Federal agency can collect certain information from the public, it must receive approval from the Office of Management and Budget (OMB). Under procedures established by the Paperwork Reduction Act of 1995, before seeking OMB approval, Federal agencies must solicit public comment on proposed collections of information. This document describes one collection of information for which NHTSA intends to seek OMB approval.

This notice announces that the Information Collection Request (ICR) abstracted below will be forwarded to OMB for review and comment and describes the nature of information collection and the expected burden. The Federal Register Notice with a 60-day comment period was published on January 3, 2017. No public comments were received before the closing date of March 6, 2017.

DATES: Comments must be submitted on or before July 19, 2017.

ADDRESSES: You may submit comments, identified by the docket number in the heading of this document, by any of the following methods:

• Federal eRulemaking Portal: Go to http://www.regulations.gov. Follow the instructions for submitting comments on the electronic docket site by clicking on “Help” or “FAQ.”

• Hand Delivery: 1200 New Jersey Avenue SE., West Building Ground Floor, Room W12-140, between 9 a.m. and 5 p.m. Eastern Time, Monday through Friday, except Federal holidays.

• Fax: 202-493-2251.

Regardless of how you submit comments, you should mention the docket number of this document.

You may call the Docket Management Facility at 202-366-9826.

Instructions: For detailed instructions on submitting comments and additional information on the rulemaking process, see the Public Participation heading of the Supplementary Information section of this document. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov, or the street address listed above. Follow the online instructions for accessing the dockets.

FOR FURTHER INFORMATION CONTACT: Mike Joyce, Marketing Specialist, Office of Communications and Consumer Information (NCO-0200), National Highway Traffic Safety Administration, 1200 New Jersey Ave SE., W52-238, Washington, DC, 20590. Mike Joyce's phone number is 202-366-5600 and his email address is Mike.Joyce@dot.gov.

SUPPLEMENTARY INFORMATION: In compliance with the Paperwork Reduction Act of 1995, NHTSA published a 60-day notice for public comment on January 3, 2017 announcing the intent to conduct consumer research. No public comments were received before the closing date of March 6, 2017. This notice announces that NHTSA will be forwarding the ICR to OMB for review and comment. NHTSA is seeking approval of this new collection.

Title: Safety Ratings and Advanced Crash Avoidance Technologies Consumer Research.

OMB Control Number: 2127-new.

Form Number: None.

Type of Request: New collection.

Affected Public: For this collection, NHTSA plans to conduct an online survey with 1,500 panel member respondents that will take approximately 20 minutes to complete. In order to identify 1,500 qualified respondents, approximately 18,520 respondents will be needed to complete a 1.5-minute screener. NHTSA plans to administer this study one time, amounting to 963 burden hours.

Prior to administering the online survey, NHTSA will administer a cognitive test of the survey instrument. For the cognitive test, a total of eight to 12 potential participants will be recruited via dialed telephone screening calls, which are estimated to take 5 minutes per response. The recruitment calls will utilize the screening section of the survey document to determine qualified respondents. NHTSA anticipates needing 55 minutes to allow respondents to navigate the survey while also discussing their feedback on survey questions. The Agency will conduct interviews with one respondent at a time.

Based on experience, it is prudent to recruit up to 12 people in order to help achieve at least eight participants showing up for the cognitive tests. Approximately 600 potential participants will complete a 1.5-minute pre-screen in order to identify a pool of potentially qualified respondents. Among the 12 selected qualified recruits, the total burden per participant is estimated to be 60 minutes (5 minutes for the screening/recruiting telephone call, plus 55 minutes for the interview). Therefore, the total annual estimated burden imposed by this collection of information is approximately 990 hours.

Estimated Total Annual Burden: 990 hours.

Number of Respondents: 1,512 (12 for cognitive interviews and 1,500 for online survey).

Abstract: The National Highway Traffic Safety Administration (NHTSA) was established by the Highway Safety Act of 1970 (23 U.S.C. 101) to carry out a Congressional mandate to reduce the mounting number of deaths, injuries, and economic losses resulting from motor vehicle crashes on the Nation's highways. In support of this mission, NHTSA previously conducted two comprehensive consumer research studies in 2012 and 2014 to better understand (1) the type of information consumers seek during their vehicle purchase decisions, (2) consumer comprehension of vehicle safety ratings, and (3) consumer knowledge and interest in advanced crash avoidance technologies in order to guide NHTSA communications. Building on that research, NHTSA proposes to conduct a quantitative online survey that draws from findings in the previous qualitative research studies to further explore consumer perception, interest and understanding of the 5-star safety ratings (including response to half-stars), overall vehicle scores, and advanced crash avoidance technologies information to support the development of consumer communications.

Summary of the Collection of Information: In this collection of information, NHTSA is seeking approval to conduct an online survey with 1,500 consumer respondents. The survey will be used to further support findings from previous qualitative research studies and will achieve the following objectives:

(1) Confirm qualitative research findings with regard to vehicle purchase decision-making criteria;

(2) Identify and evaluate sources of vehicle safety information to help inform the development of a consumer education program;

(3) Understand consumer knowledge and interest in communications around safety ratings;

(4) Explore consumer knowledge, interest and engagement with advanced crash avoidance technologies;

(5) Assess consumer response to overall vehicle score; and,

(6) Evaluate consumer perception of the 5-Star Safety Ratings and its components (including potential incorporation of half-star ratings).

Description of the Need for the Information and the Proposed Use of the Information: NHTSA will obtain critical information that will fulfill a congressional mandate to improve highway traffic safety. Specifically, the data from this collection will be used to enhance consumer understanding of NHTSA's safety ratings and advanced crash avoidance technologies and guide the development of communication materials that will help consumers as they factor this information into their vehicle purchase decisions. In addition, this data will be used to substantiate the effectiveness of communications approaches.

The results of this research will be used to inform communications for the New Car Assessment Program's Government 5-Star Safety Ratings program.

Requested Expiration Date of Approval: Three years from approval date.

Issued in Washington, DC on: June 14, 2017.
Susan Gorcowski,
Associate Administrator, NHTSA NCO-010.

[FR Doc. 2017-12694 Filed 6-16-17; 8:45 am]

BILLING CODE 4910-59-P